FEDERAL MARITIME COMMISSION

National Shipper Advisory Committee August 2023 Meeting

AGENCY: Federal Maritime Commission.

ACTION: Notice of federal advisory committee meeting.

SUMMARY: Notice is hereby given of a meeting of the National Shipper Advisory Commission (NSAC), pursuant to the Federal Advisory Committee Act.

DATES: The Committee will meet in-person in Minneapolis, MN, on August 9, 2023, from 1:00 p.m. until 4:00 p.m. Central Time. Please note that this meeting may adjourn early if the Committee has completed its business.

ADDRESSES: The meeting will be held at the Target Corporation headquarters located at 1000 Nicollet Mall, Minneapolis, MN 55403. Requests to register should be submitted to nsac@fmc.gov and contain “REGISTER FOR NSAC MEETING” in the subject line. The deadline for members of the public to register to attend the meeting in-person is Friday, August 4, at 5:00 p.m. Eastern. Members of the public are encouraged to submit registration requests via email in advance of the deadline, as space is limited and will be available on a first-come, first-served basis for those who register in advance. We will note when the limit of in-person attendees has been reached. The meeting will also stream virtually, and a link will be distributed in advance of the meeting to those who register in advance. Please note in the registration request if you would like to attend in person or virtually.

FOR FURTHER INFORMATION CONTACT: Mr. Dylan Richmond, Designated Federal Officer of the National Shipper Advisory Committee, phone: (202) 523-5810; email: drichmond@fmc.gov.

SUPPLEMENTARY INFORMATION:

Background: The National Shipper Advisory Committee is a federal advisory committee. It operates under the provisions of the Federal Advisory Committee Act, 5 U.S.C. app., and 46 U.S.C. chapter 425. The Committee was established on January 1, 2021, when the National Defense Authorization Act for Fiscal Year 2021 became law. Public Law 116-283, section 8604, 134 Stat. 3388 (2021). The Committee provides information, insight, and expertise pertaining to conditions in the ocean freight delivery system to the Commission. Specifically, the Committee advises the Federal Maritime Commission on policies relating to the competitiveness, reliability, integrity, and fairness of the international ocean freight delivery system. 46 U.S.C. 42502(b).

The Committee will receive an update from each of its subcommittees. The Committee may receive proposals for recommendations to the Federal Maritime Commission and may vote on these recommendations. Any proposed recommendations will be available for the public to view in advance of the meeting on the NSAC's website, https://www.fmc.gov/industry-oversight/national-shipper-advisory-committee/.

Public Comments: Members of the public may submit written comments to NSAC at any time. Comments should be addressed to NSAC, c/o Dylan Richmond, Federal Maritime Commission, 800 North Capitol St. NW, Washington, DC 20573 or nsac@fmc.gov.

The Committee will also take public comment at its meeting. If attending the meeting in person and providing comments, please note that in the registration request. Comments are most helpful if they address the Committee's objectives or their proposed recommendations. Comments at the meeting will be limited to 3 minutes each.

A copy of all meeting documentation, including meeting minutes, will be available at www.fmc.gov following the meeting.

By the Commission.
Dated: July 20, 2023.
JoAnne O'Bryant,
Program Analyst.

[FR Doc. 2023-15716 Filed 7-24-23; 8:45 am]

BILLING CODE 6730-02-P